DEPARTMENT OF COMMERCE

National Oceanic and Atmospheric Administration

[RIN 0648-XD324]

Pacific Fishery Management Council; Public Meeting

AGENCY: National Marine Fisheries Service (NMFS), National Oceanic and Atmospheric Administration (NOAA), Commerce.

ACTION: Notice; public meeting.

SUMMARY: The Atlantis California Current Ecosystem Model will be reviewed by a panel composed of representatives from the Pacific Fishery Management Council's (Pacific Council) Scientific and Statistical Committee, the Center for Independent Experts, and NMFS. The review session is open to the public.

DATES: The review session will begin at 9 a.m. each day, from Monday, June 30 to Wednesday, July 2, 2014, and continue each day until business is concluded.

ADDRESSES: The review session will be held at the NOAA Northwest Fisheries Science Center Auditorium, 2725 Montlake Blvd. E., Seattle, WA 98112; telephone: (206) 860-3200.

SUPPLEMENTARY INFORMATION: The purpose of the session is to evaluate the strengths, weaknesses, appropriate uses, and potential areas of improvement for the Atlantis model with respect to the Pacific Council's management needs, in the context of ecosystem-based management. Reviewers will be asked to comment on the technical merits and/or deficiencies of the methodology and make recommendations for remedies. The review will follow the Methodology Review Process established by the Pacific Council, and Terms of Reference developed for this review.

Although non-emergency issues not contained in the meeting agenda may come before the panel participants for discussion, those issues may not be the subject of formal panel action during this meeting. Panel action will be restricted to those issues specifically listed in this notice and any issues arising after publication of this notice that require emergency action under Section 305(c) of the Magnuson-Stevens Fishery Conservation and Management Act, provided the public has been notified of the panel participants' intent to take final action to address the emergency.

All visitors to the NMFS science centers should bring photo identification to the meeting location. Visitors who are foreign nationals (defined as a person who is not a citizen or national of the United States) will require additional security clearance to access the NOAA facilities. Foreign national visitors should contact Jim Herkelrath at (206) 860-6798 at least two weeks prior to the meeting date to initiate the security clearance process.

Special Accommodations

This session is physically accessible to people with disabilities. Requests for sign language interpretation or other auxiliary aids should be directed to Mr. Kris Kleinschmidt at (503) 820-2425 at least 5 days prior to the meeting date.

Dated: June 4, 2014.
Tracey L. Thompson,
Acting Deputy Director, Office of Sustainable Fisheries, National Marine Fisheries Service.

[FR Doc. 2014-13377 Filed 6-6-14; 8:45 am]

BILLING CODE 3510-22-P